DEPARTMENT OF HEALTH AND HUMAN SERVICES

Centers for Disease Control and Prevention

Healthcare Infection Control Practices Advisory Committee (HICPAC); Meeting

In accordance with section 10(a)(2) of the Federal Advisory Committee Act (Pub. L. 92-463), the Centers for Disease Control and Prevention (CDC) announces the following meeting.

Name: Healthcare Infection Control Practices Advisory Committee (HICPAC).

Times and Dates: 8:30 a.m.-5 p.m., June 1, 2006; 8:30 a.m.-4 p.m., June 2, 2006.

Place: CDC Roybal Campus, Bldg. 19, Auditorium B3, 1600 Clifton Road, Atlanta, GA 30333.

Status: Open to the public, limited only by the space available.

Purpose: The committee is charged with providing advice and guidance to the Secretary, Department of Health and Human Services, the Assistant Secretary for Health, the Director, CDC, and the Director, National Center for Infectious Diseases (NCID), regarding: (1) The practice of hospital infection control; (2) strategies for surveillance, prevention, and control of infections (e.g., nosocomial infections), antimicrobial resistance, and related events in settings where healthcare is provided; and (3) periodic updating of guidelines and other policy statements regarding prevention of healthcare-associated infections and healthcare-related conditions.

Matters To Be Discussed: Informatics and healthcare-associated infections; process for updating guidelines; updates on pandemic flu; updates on antimicrobial resistance and updates on CDC activities of interest to the committee.

Agenda items are subject to change as priorities dictate.

For Further Information Contact: Harriette Lynch, Committee Management Specialist, HICPAC, Division of Healthcare Quality Promotion, NCID, CDC, l600 Clifton Road, NE, M/S A-07, Atlanta, Georgia 30333, telephone 404-639-4035.

The Director, Management Analysis and Services Office, has been delegated the authority to sign Federal Register notices pertaining to announcements of meetings and other committee management activities, for both the Centers for Disease Control and Prevention and the Agency for Toxic Substances and Disease Registry.

Dated: May 5, 2006.
Alvin Hall, M.S.,
Director, Management Analysis and Services Office, Centers for Disease Control and Prevention.

[FR Doc. E6-7211 Filed 5-10-06; 8:45 am]

BILLING CODE 4163-18-P